DEPARTMENT OF COMMERCE

International Trade Administration

[Application No. 99-8A005]

Export Trade Certificate of Review

ACTION: Notice of Issuance of an Amended Export Trade Certificate of Review for the California Almond Export Association, LLC, Application no. 99-8A005.

SUMMARY: The Secretary of Commerce, through the Office of Trade and Economic Analysis (“OTEA”), issued an amended Export Trade Certificate of Review to the California Almond Export Association, LLC (“CAEA”) on May 6, 2015. The previous amendment was issued on May 1, 2014.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2015). OTEA is issuing this notice pursuant to 15 CFR 325.6(b), which requires the Secretary to publish a summary of the certificate in the Federal Register. Under Section 305(a) of the Act and 15 CFR 325.11(a), any person aggrieved by the Secretary's determination may, within 30 days of the date of this notice, bring an action in any appropriate district court of the United States to set aside the determination on the ground that the determination is erroneous.

Description of the Amendment to the Certificate: Remove the following company as a Member of CAEA's Certificate: Minturn Nut Company, Inc., Le Grand, CA.

CAEA's Export Trade Certificate of Review complete amended Membership is listed below:

Almonds California Pride, Inc., Caruthers, CA

Baldwin-Minkler Farms, Orland, CA

Blue Diamond Growers, Sacramento, CA

Campos Brothers, Caruthers, CA

Chico Nut Company, Chico, CA

Del Rio Nut Company, Inc., Livingston, CA

Fair Trade Corner, Inc., Chico, CA

Fisher Nut Company, Modesto, CA

Hilltop Ranch, Inc., Ballico, CA

Hughson Nut, Inc., Hughson, CA

Mariani Nut Company, Winters, CA

Nutco, LLC d.b.a. Spycher Brothers, Turlock, CA

Paramount Farms, Inc., Los Angeles, CA

P-R Farms, Inc., Clovis, CA

Roche Brothers International Family Nut Co., Escalon, CA

South Valley Almond Company, LLC, Wasco, CA

Sunny Gem, LLC, Wasco, CA

Western Nut Company, Chico, CA

Dated: May 18, 2015.
Joseph Flynn,
Director, Office of Trade and Economic Analysis, International Trade Administration.

[FR Doc. 2015-12405 Filed 5-21-15; 8:45 am]

BILLING CODE 3510-DS-P